FEDERAL COMMUNICATIONS COMMISSION

[FRS 17192]

Open Commission Meeting, Tuesday October 27, 2020

October 20, 2020.

The Federal Communications Commission will hold an Open Meeting on the subjects listed below on Tuesday, October 27, 2020, which is scheduled to commence at 10:30 a.m. Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | TITLE: Restoring Internet Freedom (WC Docket No. 17-108); Bridging the Digital Divide for Low-Income Consumers (WC Docket No. 17-287); Lifeline and Link Up Reform and Modernization (WC Docket No. 11-42).
|  | SUMMARY: The Commission will consider an Order on Remand that would respond to the remand from the U.S. Court of Appeals for the D.C. Circuit and conclude that the Restoring Internet Freedom Order promotes public safety, facilitates broadband infrastructure deployment, and allows the Commission to continue to provide Lifeline support for broadband Internet access service.
2 | WIRELINE COMPETITION | TITLE: Establishing a 5G Fund for Rural America (GN Docket No. 20-32).
|  | SUMMARY: The Commission will consider a Report and Order that would establish a $9 billion 5G Fund for Rural America to ensure that all Americans have access to the next generation of wireless connectivity.
3 | OFFICE F ENGINEERING AND TECHNOLOGY | TITLE: Increasing Unlicensed Wireless Opportunities in TV White Spaces (ET Docket No. 20-36).
|  | SUMMARY: The Commission will consider a Report and Order that would increase opportunities for unlicensed white space devices to operate on broadcast television channels 2-35 and expand wireless broadband connectivity in rural and underserved areas.
4 | WIRELESS TELE-COMMUNICATIONS | TITLE: Streamlining State and Local Approval of Certain Wireless Structure Modifications (WT Docket No. 19-250; RM-11849).
|  | SUMMARY: The Commission will consider a Report and Order that would further accelerate the deployment of 5G by providing that modifications to existing towers involving limited ground excavation or deployment would be subject to streamlined state and local review pursuant to section 6409(a) of the Spectrum Act of 2012.
5 | MEDIA | TITLE: All-Digital AM Broadcasting (MB Docket No. 19-311); Revitalization of the AM Radio Service (MB Docket No. 13-249).
|  | SUMMARY: The Commission will consider a Report and Order that would authorize AM stations to transition to an all-digital signal on a voluntary basis and would also adopt technical specifications for such stations.
6 | MEDIA | TITLE: Video Description: Implementation of the Twenty-First Century Communications and Video Accessibility Act of 2010 (MB Docket No. 11-43).
|  | SUMMARY: The Commission will consider a Report and Order that would expand audio description requirements to 40 additional television markets over the next four years in order to increase the amount of video programming that is accessible to blind and visually impaired Americans.
7 | WIRELINE COMPETITION | TITLE: Modernizing Unbundling and Resale Requirements in an Era of Next-Generation Networks and Services (WC Docket No. 19-308).
|  | SUMMARY: The Commission will consider a Report and Order that would modernize the Commission's unbundling and resale regulations, eliminating requirements where they stifle broadband deployment and the transition to next-generation networks, but preserving them where they are still necessary to promote robust intermodal competition.
8 | ENFORCEMENT | TITLE: Enforcement Bureau Action.
|  | SUMMARY: The Commission will consider an enforcement action.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2020-24151 Filed 10-30-20; 8:45 am]

BILLING CODE 6712-01-P